DEPARTMENT OF COMMERCE

National Oceanic and Atmospheric Administration

RIN 0648-XA928

Endangered and Threatened Species; Take of Anadromous Fish

AGENCY: National Marine Fisheries Service (NMFS), National Oceanic and Atmospheric Administration, Commerce.

ACTION: Notice of decision and availability of decision documents for ESA section 10(a)(1)(A) research/enhancement permit 16578.

SUMMARY: This notice advises the public that a direct take permit has been issued to the Washington Department of Fish and Wildlife, pursuant to the Endangered Species Act of 1973 (ESA), for installation and operation of three weirs on tributaries of the lower Columbia River, and that the decision documents are available upon request.

DATES: Permit 16578 was issued on November 17, 2011, subject to certain conditions set forth therein. The permit expires on December 31, 2021.

ADDRESSES: Requests for copies of the decision documents or any of the other associated documents should be directed to the Salmon Management Division, NOAA's National Marine Fisheries Service, 1201 NE. Lloyd Blvd., Suite 1100, Portland, Oregon 97232. The documents are also available on the Internet at www.nwr.noaa.gov.

FOR FURTHER INFORMATION CONTACT: Rich Turner, Portland, OR, at phone number: (503) 736-4737, email: rich.turner@noaa.gov

SUPPLEMENTARY INFORMATION: This notice is relevant to the following species and evolutionarily significant units (ESUs):

Chinook salmon (Oncorhynchus tshawytscha): Threatened, naturally produced and artificially propagated Lower Columbia River.

Chum salmon (O. keta): Threatened, naturally produced and artificially propagated Columbia River.

Coho salmon (O. kisutch): Threatened, naturally produced and artificially propagated Lower Columbia River.

Steelhead (O. mykiss): Threatened, naturally produced and artificially propagated Lower Columbia River.

Dated: January 10, 2012.
Angela Somma,
Chief, Endangered Species Division, Office of Protected Resources, National Marine Fisheries Service.

[FR Doc. 2012-612 Filed 1-12-12; 8:45 am]

BILLING CODE 3510-22-P